DEPARTMENT OF ENERGY

Federal Energy Regulatory Commission

Combined Notice of Filings

Take notice that the Commission has received the following Natural Gas Pipeline Rate and Refund Report filings:

Filings Instituting Proceedings

Docket Numbers: RP11-2473-000.

Applicants: Gulf South Pipeline Company, LP.

Description: Compliance filing per 154.501: 2013 CICO Report Filing.

Filed Date: 8/29/14.

Accession Number: 20140829-5075.

Comments Due: 5 p.m. ET 9/17/14.

Docket Numbers: RP11-2474-000.

Applicants: Gulf Crossing Pipeline Company LLC.

Description: Compliance filing per 154.501: 2013 CICO Report Filing.

Filed Date: 8/29/14.

Accession Number: 20140829-5071.

Comments Due: 5 p.m. ET 9/17/14.

Docket Numbers: RP14-1258-000.

Applicants: Southeast Supply Header, LLC.

Description: Compliance filing per 154.203: Negotiated Rate and Non-conforming Agreement—Compliance CP14-87-000 to be effective 10/1/2014.

Filed Date: 9/11/14.

Accession Number: 20140911-5156.

Comments Due: 5 p.m. ET 9/23/14.

Docket Numbers: RP14-1259-000.

Applicants: Southeast Supply Header, LLC.

Description: Compliance filing per 154.203: SESH Incremental Fuel—Compliance CP14-87-000 to be effective 10/1/2014.

Filed Date: 9/11/14.

Accession Number: 20140911-5165.

Comments Due: 5 p.m. ET 9/23/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-1173-001.

Applicants: Eastern Shore Natural Gas Company.

Description: Compliance filing per 154.203: Off Peak Firm Transportation—OPT 90 Compliance Filing to be effective 9/7/2014.

Filed Date: 9/10/14.

Accession Number: 20140910-5191.

Comments Due: 5 p.m. ET 9/22/14.

Docket Numbers: RP11-1898-001.

Applicants: Centra Pipelines Minnesota Inc.

Description: Compliance filing per 154.203: Revised Statement of Rates to be effective 11/1/2014.

Filed Date: 9/11/14.

Accession Number: 20140911-5120.

Comments Due: 5 p.m. ET 9/23/14.

Docket Numbers: RP14-1101-001.

Applicants: WBI Energy Transmission, Inc.

Description: Compliance filing per 154.203: Compliance Filing—Non-conforming Negotiated Rate Service Agreement—Devon to be effective 7/18/2014.

Filed Date: 9/11/14.

Accession Number: 20140911-5143.

Comments Due: 5 p.m. ET 9/23/14.

Docket Numbers: RP14-1198-001.

Applicants: Eastern Shore Natural Gas Company.

Description: Compliance filing per 154.203: Revisions to Previously Filed Records in RP14-1198-000 to be effective 10/1/2014.

Filed Date: 9/11/14.

Accession Number: 20140911-5109.

Comments Due: 5 p.m. ET 9/18/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2014.
Nathaniel J. Davis, Sr.,
Deputy Secretary.

[FR Doc. 2014-23193 Filed 9-29-14; 8:45 am]

BILLING CODE 6717-01-P